DEPARTMENT OF TRANSPORTATION

Office of the Secretary

Notice of Applications for Certificates of Public Convenience and Necessity and Foreign Air Carrier Permits Filed Under Subpart B (Formerly Subpart Q) During the Week Ending August 2, 2014

The following Applications for Certificates of Public Convenience and Necessity and Foreign Air Carrier Permits were filed under Subpart B (formerly Subpart Q) of the Department of Transportation's Procedural Regulations (See 14 CFR 302.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2011-0076 and DOT-OST-2014-0133.

Date Filed: July 31, 2014.

Due Date for Answers, Conforming Applications, or Motion to Modify Scope: August 21, 2014.

Description: Application of Frontier Airlines, Inc. (“Frontier”) requesting a consolidated certificate of public convenience and necessity authorizing it to engage in scheduled foreign air transportation of persons, property and mail between: (1) Chicago, Illinois; Lansing, Michigan; Milwaukee, Wisconsin; and Rockford, Illinois; on the one hand, and Puerto Vallarta, Mexico; (2) Cincinnati, Ohio; Cleveland, Ohio; Lansing, Michigan; Philadelphia, Pennsylvania; Pittsburgh, Pennsylvania; Rockford, Illinois; and Washington, DC, on the one hand, and Cancun, Mexico; (3) Chicago, Illinois and St. Louis, Missouri, on the one hand, and San Jose del Cabo, Mexico; and (4) Chicago, Illinois and St. Louis, Missouri, on the one hand, and Huatulco, Mexico. Frontier also requests a designation to operate in the Milwaukee-Puerto Vallarta market.

Docket Number: DOT-OST-2014-0131.

Date Filed: July 31, 2014.

Due Date for Answers, Conforming Applications, or Motion to Modify Scope: August 21, 2014.

Description: Application of Frontier Airlines, Inc. requesting a certificate of public convenience and necessity authorizing it to engage in scheduled foreign air transportation of persons, property, and mail between a point or points in the United States and a point or points in the Dominican Republic.

Barbara J. Hairston,
Supervisory Dockets Officer, Docket Operations, Federal Register Liaison.

[FR Doc. 2014-22145 Filed 9-24-14; 8:45 am]

BILLING CODE 4910-9X-P